GENERAL SERVICES ADMINISTRATION

Federal Management Regulation (FMR); Motor Vehicle Management; Notice of GSA Bulletin FMR B-20

AGENCY: Office of Governmentwide Policy, General Services Administration (GSA).

ACTION: Notice of a bulletin.

SUMMARY: This bulletin provides a deviation for executive agencies to purchase premium fuel for Government owned and leased vehicles when lower grade fuels are not available due to market shortages in Louisiana, Mississippi, Alabama, and Texas due to the flooding and damage from Hurricane Gustav. GSA Bulletin FMR B-20 may be found at www.gsa.gov/bulletin.

DATES: The bulletin announced in this notice became effective on August 31, 2008.

FOR FURTHER INFORMATION CONTACT: For clarification of content, contact General Services Administration, Office of Governmentwide Policy, Office of Travel, Transportation and Asset Management, at (202) 501-1777. Please cite Bulletin FMR B-20.

SUPPLEMENTARY INFORMATION:

A. Background

The Federal Management Regulation (FMR), Subpart B, section 102-34.335 (41 CFR 102-34.335), requires drivers to use the grade (octane rating) of fuel recommended by the motor vehicle manufacturer when fueling motor vehicles owned or leased by the Government. Present restrictions prohibit the use of premium grade fuel in motor vehicles owned or leased by the Government that will operate on a lower grade of fuel.

As a result of the damage caused by Hurricane Gustav, executive agencies may encounter fuel shortages in the affected areas and may not be able to acquire lower grade fuel for their vehicles to complete their missions. The original intent of section 102-34.335 was to reduce fuel costs and the unnecessary use of premium fuel in vehicles capable of being operated on lower grade fuel. This bulletin, B-20, provides a deviation for executive agencies to purchase premium fuel for Government owned and leased vehicles when lower grade fuels are not available due to market shortages in Louisiana, Mississippi, Alabama, and Texas due to the flooding and damage from Hurricane Gustav.

B. Procedures

Bulletins regarding motor vehicle management are located on the Internet at www.gsa.gov/bulletin as Federal Management Regulation bulletins.

Dated: September 3, 2008
Becky Rhodes,
Deputy Associate Administrator.

[FR Doc. E8-21072 Filed 9-10-08; 8:45 am]

BILLING CODE 6820-14-S